DEPARTMENT OF HEALTH AND HUMAN SERVICES

Administration for Children and Families

Head Start Survey Under Emergency Review by the Office of Management and Budget (OMB)

Title: Survey of Salaries and Other Compensation of Head Start Grantees and Delegate Agencies Nationwide.

OMB No. New request.

Description: A committee of the U.S. House of Representatives requested that the Secretary of Health and Human Services conduct a review of the financial management of Head Start grantees nationwide. The House Education and the Workforce Committee is interested in knowing the salaries and benefits of the top 25 Head Start executives and the amount of their salary and benefits financed using Federal Head Start dollars. To be responsive to the House of Representatives, the Head Start Bureau has prepared a survey form to be mailed to and completed by all Head Start grantees and delegate agencies within 30 days. The Head Start Bureau will then compile the results and forward the requested information to the Committee.

ANNUAL BURDEN ESTIMATES
Instrument | Number of respondents | Number of responses per respondent | Average burden hours per response | Total burden hours
Completion of HSB Survey (new web-based form) | 2700 | 1x only | .5 | 1,350
Retrieval and submission of existing IRS Form 990, SF424, and PIR data | 2700 | 1x only | 8.5 | 22,950

Estimated Total Burden Hours: 24,300 hours.

Additional Information: The Administration for Children and Families is requesting that OMB grant a 30-day approval for this information collection under procedures for emergency processing by December 8, 2003. A copy of this information collection, with applicable supporting documentation, may be obtained by calling the Administration for Children and Families, Reports Clearance Officer, Robert Sargis at (202) 690-7275. In addition, a request may be made by sending an e-mail request to: rsargis@acf.hhs.gov.

Comments and suggestions about the information collection described above should be directed to the following e-mail address at the Office of Information and Regulatory Affairs, Office of Management and Budget, Paper Reduction Project: Lauren_Wittenberg@omb.eop.gov.

Dated: November 6, 2003.
Robert Sargis,
Reports Clearance Officer.

[FR Doc. 03-28437 Filed 11-12-03; 8:45 am]

BILLING CODE 4184-01-M